DEPARTMENT OF THE INTERIOR

National Park Service

[NPS-WASO-NAGPRA-NPS0038528; PPWOCRADN0-PCU00RP14.R50000]

Notice of Inventory Completion: University of North Dakota, Grand Forks, ND

AGENCY: National Park Service, Interior.

ACTION: Notice.

SUMMARY: In accordance with the Native American Graves Protection and Repatriation Act (NAGPRA), the University of North Dakota has completed an inventory of human remains and associated funerary objects and has determined that there is a cultural affiliation between the human remains and associated funerary objects and Indian Tribes or Native Hawaiian organizations in this notice.

DATES: Repatriation of the human remains and associated funerary objects in this notice may occur on or after September 19, 2024.

ADDRESSES: Dr. Crystal Alberts, University of North Dakota, Twamley Hall Room 300, 264 Centennial Drive, Grand Forks, ND 58202, phone (701) 777-2393, email und.nagpra@und.edu.

SUPPLEMENTARY INFORMATION: This notice is published as part of the National Park Service's administrative responsibilities under NAGPRA. The determinations in this notice are the sole responsibility of the University of North Dakota, and additional information on the determinations in this notice, including the results of consultation, can be found in the inventory or related records. The National Park Service is not responsible for the determinations in this notice.

Abstract of Information Available

Based on the information available, human remains representing, at least, three individuals have been reasonably identified. No associated funerary objects are present. The University of North Dakota (UND) and Indiana University, Bloomington (IU) have no record of any potentially hazardous substances being used to treat the human remains described in this notice.

Between June 25-August 1, 1948, as part of the Missouri Valley Project of the Smithsonian River Basin Surveys, former UND faculty member Gordon W. Hewes and a field team excavated two or more mound groups in Barnes County, ND from a site later designated 32BA1 and referred to as Baldhill Mounds. In 1949, Hewes placed a number of human remains and associated funerary objects from 32BA1 on indefinite loan to IU through former IU faculty member, Georg K. Neumann.

In March 2022, human remains from 32BA1 were found on UND's campus in the Department of Anthropology. Some of the human remains detailed in this notice from 32BA1 were found on IU's campus sometime between 2021 and 2022. Separately, human remains from 32BA1 were sent to the Smithsonian National Museum of Natural History at an unknown time by an unknown individual or individuals. The human remains were transported back to IU from the Smithsonian in February 2024. In November 2023, UND recalled the loan, and in March 2024, UND faculty transported the human remains from IU to UND.

Based on the information available, human remains representing, at least, two individuals have been reasonably identified, along with 51 associated funerary objects, consisting of faunal bones and faunal bone fragments. The University of North Dakota (UND) and Indiana University, Bloomington (IU) have no record of any potentially hazardous substances being used to treat the human remains and associated funerary objects described in this notice. Henry Montgomery, former UND faculty member and acting President, conducted numerous excavations of mounds in Ramsey County, ND and Nelson County, ND in mid-August-September 1887. Montgomery also excavated two mounds within Grand Forks County, ND, as well as mounds in Walsh County, ND now with the designation 32WA1 (Blasky or Fordville Mounds). In 1949, Gordon W. Hewes, former UND faculty, placed these human remains and associated funerary objects on indefinite loan to IU through former IU faculty member, Georg K. Neumann. The human remains and associated funerary objects detailed in this notice were found on IU's campus sometime between 2021 and 2022. In November 2023, UND recalled the loan, and in March 2024, UND faculty transported the human remains and associated funerary objects from IU to UND.

Cultural Affiliation

Based on the information available and the results of consultation, cultural affiliation is reasonably identified by the geographical location of the human remains described in this notice.

Determinations

The University of North Dakota has determined that:

• The human remains described in this notice represent the physical remains of five individuals of Native American ancestry.

• The 51 objects described in this notice are reasonably believed to have been placed intentionally with or near individual human remains at the time of death or later as part of the death rite or ceremony.

• There is a reasonable connection between the human remains described in this notice and the Northern Cheyenne Tribe of the Northern Cheyenne Indian Reservation, Montana; Sisseton-Wahpeton Oyate of the Lake Traverse Reservation, South Dakota; Spirit Lake Tribe, North Dakota; Standing Rock Sioux Tribe of North & South Dakota; Three Affiliated Tribes of the Fort Berthold Reservation, North Dakota; and the Turtle Mountain Band of Chippewa Indians of North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 19, 2024. If competing requests for repatriation are received, the University of North Dakota must determine the most appropriate requestor prior to repatriation. Requests for joint repatriation of the human remains and associated funerary objects are considered a single request and not competing requests. The University of North Dakota is responsible for sending a copy of this notice to the Indian Tribes and Native Hawaiian organizations identified in this notice.

Authority: Native American Graves Protection and Repatriation Act, 25 U.S.C. 3003, and the implementing regulations, 43 CFR 10.10.

Dated: August 7, 2024.
Melanie O'Brien,
Manager, National NAGPRA Program.

[FR Doc. 2024-18680 Filed 8-19-24; 8:45 am]

BILLING CODE 4312-52-P